DEPARTMENT OF COMMERCE

National Oceanic and Atmospheric Administration

RIN 0648-XD310

New England Fishery Management Council; Public Meeting

AGENCY: National Marine Fisheries Service (NMFS), National Oceanic and Atmospheric Administration (NOAA), Commerce.

ACTION: Notice; public meeting.

SUMMARY: The New England Fishery Management Council (Council) is scheduling a peer review by the Center for Independent Experts (CIE) on June 12-13, 2014. The review panel is being convened for the purpose of providing expert technical comments and advice on the use of a final report prepared by Compass Lexecon for the Council in Amendment 18 to the Northeast Multispecies Fishery Management Plan. The report is titled, “Recommendations for Excessive-Share Limits in the Northeast Multispecies Fishery” and was submitted to the Council in December 2013. The peer review is being coordinated by NMFS and hosted by the Council.

DATES: This meeting will be held on Thursday June 12, 2014 and Friday June 13, 2014. The meeting will be open to the public on the first day, June 12 and begin at 9 a.m. The review panel will meet in a closed session on June 13, 2014.

ADDRESSES:

Meeting address: The meeting will be held at the Hawthorne Hotel, 18 Washington Square West, Salem MA 01970; telephone: (978) 744-4080; fax: (978) 745-2626.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The New England Fishery Management Council has been developing Amendment 18 to the Northeast Multispecies Fishery Management Plan. One goal of Amendment 18 is to consider establishing accumulation limits in the fishery. Through this Amendment, the Council has been working to identify an “excessive share” threshold for the fishery. All federal fishery management plans must comply with National Standard 4 of the Magnuson-Stevens Act (16 U.S.C. 1851(a)(4)), requiring that fishing privilege allocations be carried out so that “no particular individual, corporation, or other entity acquires an excessive share of such privileges.” During the course of the Council's deliberations, it was decided that additional expertise from an external contractor was needed to help determine if excessive shares exist in the fishery today and describe potential constraints that could prevent excessive shares from existing in the future. To provide this expertise, the economic consulting firm Compass Lexecon was contracted to give advice on an appropriate excessive share threshold for the Northeast Multispecies Fishery.

Compass Lexecon performed their analysis in the latter half of 2013. Their research involved receiving input from fishery stakeholders via surveys and interviews and analyzing NMFS fishery data. Compass Lexecon assessed available models for evaluating the presence of market power, and made recommendations with regard to setting accumulation limits. Their final report will be evaluated by the Center for Independent Experts (CIE) on June 12-13, 2014.

The National Marine Fisheries Service's Office of Science and Technology coordinates and manages a contract providing external expertise through the CIE to conduct independent peer reviews of NMFS scientific projects. CIE reviewers are selected by the CIE Steering Committee and CIE Coordination Team to conduct the independent peer review in compliance with predetermined Terms of Reference of the peer review. Each CIE reviewer is contracted to deliver an independent peer review report to be approved by the CIE Steering Committee, and the Chairman will provide a summary report. Further information on the CIE process can be obtained from www.ciereviews.org.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: May 21, 2014.
Tracey L. Thompson,
Acting Deputy Director, Office of Sustainable Fisheries, National Marine Fisheries Service.

[FR Doc. 2014-12199 Filed 5-27-14; 8:45 am]

BILLING CODE 3510-22-P